DEPARTMENT OF TRANSPORTATION

Federal Aviation Administration

Notice of Intent To Request Approval From the Office of Management and Budget of a Currently Approved Information Collection Activity, Request for Comments; Flight Plans (Domestic/International)

AGENCY: Federal Aviation Administration (FAA), DOT.

ACTION: Notice and request for comments.

SUMMARY: The FAA invites public comments about our intention to request the Office of Management and Budget (OMB) to approve a current information collection. Title 49 U.S.C., paragraph 40103(b) authorizes regulations governing the flight of aircraft. 14 CFR 91 prescribes requirements for filing domestic and international flight plans. Information is collected to provide services to aircraft in flight and protection of persons/property on the ground.

DATES: Please submit comments by May 15, 2006.

FOR FURTHER INFORMATION CONTACT: Judy Street on (202) 267-9895, or by e-mail at: Judy.Street@faa.gov.

SUPPLEMENTARY INFORMATION:

Federal Aviation Administration (FAA)

Title: Flight Plans (Domestic/International).

Type of Request: Approval of a currently approved collection.

OMB Control Number: 2120-0026.

Form(s): FAA Forms 7233-1 and 7233-4.

Affected Public: An estimated 631,762 respondents.

Frequency: The information is collected as needed.

Estimated Average Burden Per Response: Approximately 1 minute per response.

Estimated Annual Burden Hours: An estimated 279,402 hours annually.

Abstract: Title 49 U.S.C., paragraph 40103(b) authorizes regulations governing the flight of aircraft. 14 CFR part 91 prescribes requirements for filing domestic and international flight plans. Information is collected to provide services to aircraft in flight and protection of persons/property on the ground.

ADDRESSES: Send comments to the FAA at the following address: Ms. Judy Street, Room 1033, Federal Aviation Administration, Standards and Information Division, ABA-20, 800 Independence Ave., SW., Washington, DC 20591.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on March 9, 2006.
Judith D. Street,
FAA Information Collection Clearance Officer, Information Systems and Technology Services Staff, ABA-20.

[FR Doc. 06-2496 Filed 3-14-06; 8:45 am]

BILLING CODE 4910-13-M